DEPARTMENT OF HEALTH AND HUMAN SERVICES

Office of the Secretary

Emergency Clearance: Public Information Collection Requirements Submitted to the Office of Management and Budget (OMB)

In compliance with the requirements of Section 3506(c)(2)(A) of the Paperwork Reduction Act of 1995, the Department of Health and Human Services (DHHS), Office of the Secretary has submitted to the Office of Management and Budget (OMB). We are requesting an emergency review because the collection of information as described below is needed prior to expiration of the normal time limits for OMB review as established in 5 CFR 1320. Section 703 of Public Law 106-113 requires the Secretary to conduct an evaluation of State Children's Health Insurance Programs and submit the results to Congress no later than December 31, 2001. Following the normal information collection clearance procedures would cause this statutory deadline to be missed.

DHHS is requesting that OMB grant emergency approval by June 22, 2001 for a period of 180 days.

Title and Description of Information Collection

State Children's Health Insurance Program Focus Group Study—NEW—As part of evaluation of the State Children's Health Insurance Program (SCHIP), the Office of the Assistant Secretary for Planning and Evaluation is proposing the collection of qualitative data by conducting a series of 52 focus groups in nine states. The focus groups will be comprised of SCHIP program participants, SCHIP eligibles, and individuals who have disenrolled in the program. The purpose of this portion of the study is to identify factors which influence enrollment in and disenrollment from Medicaid and SCHIP. Respondents: Individuals or households.

Burden Information
Instrument | Number of respondents | Minutes per response | Total burden (hours)
Screen | 6,240 | 6 | 624
Registration | 468 | 5 | 39
Focus Group | 468 | 150 | 1,170
Total |  |  | 1,833

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street, NW., Washington, DC 20503.

Comments may also be faxed to Ms. Eydt at 202-395-6974. Comments should be received by OMB by June 20, 2001.

Comments may also be sent to Cynthia Agens Bauer, OS Reports Clearance Officer, Room 503H, Humphrey Building, 200 Independence Avenue SW., Washington, DC, 20201.

Dated: May 18, 2001.
Kerry Weems,
Acting Deputy Assistant Secretary, Budget.

[FR Doc. 01-13258 Filed 5-24-01; 8:45 am]

BILLING CODE 4154-05-M